ENVIRONMENTAL PROTECTION AGENCY

[EPA-HQ-OPP-2005-0206; FRL-8806-6]

Fipronil; Product Cancellation Order and Amendment to Terminate Uses

AGENCY: Environmental Protection Agency (EPA).

ACTION: Notice.

SUMMARY: This notice announces EPA's cancellation order and amendment to terminate uses of products containing the pesticide fipronil, pursuant to section 3 of the Federal Insecticide, Fungicide, and Rodenticide Act (FIFRA), as amended. This cancellation order follows the November 15, 2009 expirations of conditional registrations and in one case expiration of a use. These are not the last fipronil products registered for use in the United States. Any distribution, sale, or use of the fipronil products subject to this cancellation order is permitted only in accordance with the terms of this order, including any existing stocks provisions.

DATES: The expirations occurred on November 15, 2009.

FOR FURTHER INFORMATION CONTACT: Richard Gebken, Registration Division, Office of Pesticide Programs, Environmental Protection Agency, 1200 Pennsylvania Ave., NW., Washington, DC 20460-0001; telephone number: (703) 305-6701; fax number: (703) 305-6920; e-mail address: gebken.richard@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2005-0206. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the expiration of certain corn-in-furrow and turfgrass end-use fipronil products registered under section 3 of FIFRA. This notice also announces the amendment to terminate uses of all corn-in-furrow end-use fipronil products registered under section 3 of FIFRA, and this notice serves as a cancellation order to provide for existing stocks of affected products. These registrations are listed in sequence by registration number in Tables 1 and 2 of this unit.

Table 1.—Fipronil Product Cancellations
EPA Registration Number | Product Name
7969-206 | Regent 1.5G
7969-208 | Regent 80WG
7969-212 | H&G 61748 / “Over n Out” 432-1451 BES 1000 Insecticide

Table 2.—Fipronil Product Registration Amendment to Terminate Uses
EPA Registration Number | Product Name
7969-207 | Regent 4SC

Table 3 of this unit includes the names and addresses of record for all registrants of the products in Tables 1 and 2 of this unit, in sequence by EPA company number.

Table 3.—Registrants of Cancelled and/or Amended Fipronil Products
EPA Company Number | Company Name and Address
432 | Bayer Environmental Science2 T. W. Alexander Drive Research Triangle Park, NC 27709
7969 | BASF Corporation P.O. Box 1352826 Davis Drive Research Triangle Park, NC 27709

III. Cancellation Order

Pursuant to FIFRA section 3, EPA hereby announces the expirations, of fipronil registrations identified in Table 1 of Unit II and expiration of the corn-in-furrow use for the registration in Table 2 of Unit II. The Agency considers the expiration of a time limited registration to be a cancellation under section 3 of FIFRA, for purposes of section 6(a)(1) of FIFRA. Any distribution, sale, or use of existing stocks of the cancelled products or terminated uses identified in Tables 1 and 2 of Unit II in a manner inconsistent with any of the Provisions for Disposition of Existing Stocks set forth in Unit IV will be considered a violation of FIFRA.

IV. Provisions for Disposition of Existing Stocks

Existing stocks are those stocks of registered pesticide products which are currently in the United States and which were packaged, labeled, and released for shipment prior to the effective date of the cancellation action. The cancellation order issued in this notice includes the following existing stocks provisions.

1. The registrant may continue to sell or distribute existing stocks of fipronil products identified in Tables 1 and 2 of Unit II with previously approved labeling until May 15, 2011.

2. Persons other than the registrant may continue to sell or distribute existing stocks of fipronil products identified in Tables 1 and 2 of Unit II with previously approved labeling until such stocks are exhausted.

3. Persons other than the registrant may use existing stocks of fipronil products identified in Tables 1 and 2 of Unit II until existing stocks are exhausted. Any use of existing stocks must be in a manner consistent with the previously approved labeling for that product.

List of Subjects

Environmental protection, Pesticides and pests, Cancellation order.

Dated: January 19, 2010.
Lois Rossi,
Director, Registration Division, Office of Pesticide Program.

[FR Doc. 2010-2147 Filed 2-2-10; 8:45 a.m.]

BILLING CODE 6560-50-S